DEPARTMENT OF COMMERCE

International Trade Administration

[A-423-810]

Notice of Amended Preliminary Determination of Sales at Not Less Than Fair Value and Postponement of Final Determination: Structural Steel Beams From Luxembourg

AGENCY: Import Administration, International Trade Administration, U.S. Department of Commerce.

ACTION: Notice of amended preliminary determination of sales at not less than fair value.

EFFECTIVE DATE: January 31, 2002.

FOR FURTHER INFORMATION CONTACT: David J. Goldberger or Margarita Panayi, Import Administration, International Trade Administration, U.S. Department of Commerce, 14th Street and Constitution Avenue, NW., Washington, DC 20230; telephone: (202) 482-4136 or (202) 482-0049, respectively.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“Department's”) regulations are references to 19 CFR part 351 (April 2001).

Amended Preliminary Determination

We are amending the preliminary determination of sales at less than fair value for structural steel beams from Luxembourg to reflect the correction of ministerial errors made in the margin calculations in that determination. Correcting these errors results in an amended preliminary determination that sales were made at not less than fair value. We are publishing this amendment to the preliminary determination pursuant to 19 CFR 351.224(e).

Case History

On December 19, 2001, the Department preliminarily determined that structural steel beams from Luxembourg are being, or are likely to be, sold in the United States at less than fair value (63 FR 67223; December 28, 2001).

On January 2, 2002, we disclosed our calculations for the preliminary determination to counsel for ProfilARBED, S.A. (“ProfilaRBED”) and to counsel for petitioners.

On January 7, 2002, we received a submission, timely filed pursuant to 19 CFR 351.224(c)(2), from ProfilARBED alleging ministerial errors in the Department's preliminary determination. In its submission, ProfilARBED requested that these errors be corrected and an amended preliminary determination be issued reflecting these changes. We did not receive ministerial error allegations from the petitioners.

Amendment of Preliminary Determination

The Department's regulations provide that the Department will correct any significant ministerial error by amending the preliminary determination. See 19 CFR 351.224(e). A significant ministerial error is an error the correction of which, either singly or in combination with other errors: (1) Would result in a change of at least five absolute percentage points in, but not less than 25 percent of, the weighted-average dumping margin calculated in the original (erroneous) preliminary determination; or (2) would result in a difference between a weighted-average dumping margin of zero (or de minimis) and a weighted-average dumping margin of greater than de minimis, or vice versa. See 19 CFR 351.224(g).

After analyzing ProfilARBED's submission, we have determined that ministerial errors were made in the margin calculation for ProfilARBED in the preliminary determination. Specifically, (1) We inadvertently included imputed inventory carrying expenses in the calculation of the constructed export price (CEP) profit rate; (2) we inadvertently allocated CEP profit to indirect selling expenses and inventory carrying expenses incurred abroad; (3) we inadvertently deducted from CEP indirect selling expenses and inventory carrying expenses incurred abroad; (4) we did not apply an adjustment to the calculation of the variable cost of manufacturing in the third country market as discussed in the December 19, 2001, memorandum from the Office of Accounting; and (5) we inadvertently omitted billing adjustments from the calculation of the net third country market price used for normal value. See Memorandum to Louis Apple from The Team, dated January 16, 2002, for further discussion of ProfilARBED's ministerial errors allegations and the Department's analysis.

Pursuant to 19 CFR 351.224(g)(2), the ministerial errors acknowledged above for ProfilARBED are significant because the correction of the ministerial errors results in a difference between a weighted-average dumping margin of greater than de minimis and a weighted-average dumping margin of de minimis. Therefore, we have recalculated the margin for ProfilARBED. The Department hereby amends its preliminary determination with respect to ProfilARBED to correct these errors. In addition, as ProfilARBED is the sole respondent in this investigation, this preliminary determination is negative. Accordingly, we are terminating suspension of liquidation of all entries of subject merchandise.

The revised weighted-average dumping margins are as follows:

Exporter/manufacturer | Weighted-average margin percentage
ProfilARBED | 1.43 (de minimis)

Postponement of Final Determination

Pursuant to section 735(a)(2)(B) of the Act, on December 18, 2001, the petitioners requested that, in the event of a negative preliminary determination in this investigation, the Department postpone its final determination until not later than 135 days after the date of the publication of the preliminary determination in the Federal Register. In accordance with 19 CFR 351.210(b)(i), because our amended preliminary determination is negative and no compelling reasons for denial exist, we are granting the petitioners' request and are postponing the final determination until no later than 135 days after the publication of the Department's original preliminary determination notice in the Federal Register on December 28, 2002.

Suspension of Liquidation

We will instruct the Customs Service to terminate the suspension of liquidation of all entries of structural steel beams from Luxembourg, including those entries exported by ProfilARBED, and release any cash deposits, bonds, or other securities posted. These instructions will remain in effect until further notice.

International Trade Commission Notification

In accordance with section 733(f) of the Act, we have notified the International Trade Commission (“ITC”) of the amended preliminary determination. As a result of this amended preliminary determination, if our final determination is affirmative, the ITC will determine within 75 days, rather than 45 days, of our final determination whether these imports are materially injuring, or threaten material injury to, the U.S. industry.

This amended preliminary determination is published pursuant to section 777(i)(1) of the Act and 19 CFR 351.224(e).

Dated: January 24, 2002.
Faryar Shirzad,
Assistant Secretary for Import Administration.

[FR Doc. 02-2411 Filed 1-30-02; 8:45 am]

BILLING CODE 3510-DS-P